DEPARTMENT OF LABOR

Employment and Training Administration

[TA-W-63,019]

Honeywell Aerospace, Aerospace—Defense & Space Division, Teterboro, NJ; Notice of Affirmative Determination Regarding Application for Reconsideration

By application dated May 27, 2008, United Automobile, Aerospace & Agricultural Implement Workers of America, Local 153 requested administrative reconsideration of the negative determination regarding workers' eligibility to apply for Trade Adjustment Assistance (TAA) and Alternative Trade Adjustment Assistance (ATAA) applicable to workers and former workers of the subject firm. The determination was issued on April 16, 2008. The Notice of determination was published in the Federal Register on May 2, 2008 (73 FR 24318).

The initial investigation resulted in a negative determination based on the finding that imports of displays, processors, flight controls, software, and test equipment for aircrafts did not contribute importantly to worker separations at the subject firm and no shift of production to a foreign source occurred.

In the request for reconsideration, the petitioner alleged that workers of the subject firm were separated as a direct result of Honeywell Aerospace opening a facility in Mexico. The petitioner also states that the subject firm is in the process of importing the articles produced in Mexico to the United States.

The Department has carefully reviewed the request for reconsideration and the existing record and has determined that the Department will conduct further investigation to determine whether there was a shift in production from the subject facility to Mexico and whether the subject firm has imported like or directly competitive products in the relevant time period.

Conclusion

After careful review of the application, I conclude that the claim is of sufficient weight to justify reconsideration of the U.S. Department of Labor's prior decision. The application is, therefore, granted.

Signed at Washington, DC, this 16th day of June, 2008.
Elliott S. Kushner,
Certifying Officer, Division of Trade Adjustment Assistance.

[FR Doc. E8-14302 Filed 6-24-08; 8:45 am]

BILLING CODE 4510-FN-P